DEPARTMENT OF JUSTICE

Notice of Lodging of Proposed Agreed Amendments to Consent Decree Pursuant to The Comprehensive Environmental Response, Compensation and Liability Act

In accordance with the policy of the Department of Justice, notice is hereby given that proposed Agreed Amendments to Consent Decree in United State of America v. City of Grand Rapids, Michigan, Civil Action No. 1:99 CV 388, were lodged with the United States District Court for the Western District of Michigan, Southern Division, on December 10, 2001. The original consent decree, entered by the Court on August 10, 2000, involved the settlement of claims brought by the United States, pursuant to the Comprehensive Environmental Response, Compensation and Liability Act, 42 U.S.C. 9601 et seq., against 53 Settling Defendants for reimbursement of response costs and injunctive relief in connection with the Butterworth No. 2 Landfill Superfund Site (“Site”) located in Grand Rapids, Kent County, Michigan. The proposed amendments represent a settlement of claims by the United States against 18 additional Settling Defendants and seeks to add them to the consent decree.

Under this settlement with the United States, the 18 additional Settling Defendants will collectively pay $1,250,000 to the Settling Work Defendants who will then implement the entire remedy for the Site as set forth in the Record of Decision issued by the United States Environmental Protection Agency in March 1992 and as modified by an Explanation of Significant Differences dated October 23, 1998. The 18 additional Settling Defendants will also pay $131,500 to the United States for past response costs incurred in connection with the Site.

The Department of Justice will receive comments relating to the proposed amendments for a period of 30 days from the date of this publication. Comments should be addressed to the Assistant Attorney General of the Environment and Natural Resources Division, Department of Justice, Washington, D.C. 20530, and should refer to United States v. City of Grand Rapids, Michigan, et. al., D.J. Ref. 90-11-2-145A.

The proposed Agreed Amendments to Consent Decree may be examined at the office of the United States Attorney for the Western District of Michigan, 330 Ionia Avenue, N.W., Grand Rapids, Michigan 49503; and at the Region 5 office of the Environmental Protection Agency, 77 West Jackson Boulevard, Chicago, Illinois 60604-3590. A copy of the proposed Agreed Amendments to Consent Decree may be obtained by mail from the Justice Consent Decree Library, P.O. Box 7611, Washington, DC 20044-7611. In requesting a copy of the proposed amendments, please enclose a check in the amount of $3.00 (25 cents per page reproduction cost) payable to the Consent Decree Library and refer to United States v. City of Grand Rapids, Michigan, et. al., D.J. Ref. 90-11-2-145A. To obtain a copy of the original Consent Decree, please enclose a check in the amount of $33.75 (25 cents per page reproduction cost) payable to the Consent Decree Library and refer to United States v. City of Grand Rapids, Michigan, et. al., D.J. Ref. 90-11-2-145A.

William D. Brighton,
Assistant Chief, Environmental Enforcement Section, Environment and Natural Resources Division.

[FR Doc. 01-31784 Filed 12-26-01; 8:45 am]

BILLING CODE 4410-15-M